DEPARTMENT OF EDUCATION

Notice of Proposed Collection Requests; Comment Request

AGENCY: Department of Education.

ACTION: Correction notice.

SUMMARY: On May 14, 2012, the U.S. Department of Education published a 60-day comment period notice in the Federal Register (Page 29360, Column 1) seeking public comment for an information collection entitled, “Exploratory Study on the Identification of English Learners with Disabilities.” The number of school districts and schools in the abstract was incorrect. The Abstract is corrected as follows:

The purpose of this study is to learn more about current processes and personnel involved in the identification of English Learners (ELs) for special education services. The study has two main components: (1) A review of recent research on the identification of ELs with special needs, and (2) case studies of six school districts and three schools in each district. Findings will be descriptive in nature. The study is not a program evaluation and does not purport to assess program outcomes; however, findings may be useful in informing a future, nationally representative study.

The Director, Information Collection Clearance Division, Privacy, Information and Records Management Services, Office of Management, hereby issues a correction notice as required by the Paperwork Reduction Act of 1995.

Dated: May 29, 2012.
Darrin A. King,
Director, Information Collection Clearance Division, Privacy, Information and Records Management Services, Office of Management.

[FR Doc. 2012-13412 Filed 6-1-12; 8:45 am]

BILLING CODE P